NUCLEAR REGULATORY COMMISSION

[Docket No. 50-301]

Nuclear Management Company, LLC; Notice of Issuance of Amendment to Facility Operating License

The U.S. Nuclear Regulatory Commission (Commission) has issued Amendment No. 225 to Facility Operating License No. DPR-27 issued to Nuclear Management Company, LLC (the licensee), which modified the Point Beach Nuclear Plant (PBNP), Unit 2, Final Safety Analysis Report to include a reactor vessel head drop accident for operation of the PBNP, Unit 2, located in Two Rivers, WI. The amendment is effective as of the date of issuance.

The amendment authorized changes to the design basis and Final Safety Analysis Report (FSAR) related to a postulated reactor vessel head drop accident in accordance with 10 CFR 50.71(e).

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on May 13, 2005 (70 FR 25621).

For further details with respect to this action see (1) the application for amendment dated April 29, 2005, as supplemented by letters dated May 13, May 19, June 1, June 4, June 9, June 20, and June 23, 2005, (2) Amendment No. 225 to License No. DPR-301, and (3) the Commission's related Safety Evaluation dated June 24, 2005. The Commission made a final no significant hazards consideration determination in its Safety Evaluation dated June 24, 2005. Documents may be examined, and/or copied for a fee, at the NRC's Public Document Room, located at One White Flint North, Public File Area O1 F21,11555 Rockville Pike (first floor), Rockville, Maryland. Publicly available records will be accessible electronically from the Agencywide Documents Access and Management Systems (ADAMS) Public Electronic Reading Room on the Internet at the NRC Web site, http://www.nrc.gov/NRC/ADAMS/index.html. Persons who do not have access to ADAMS or who encounter problems in accessing the documents located in ADAMS should contact the NRC Public Document Room Reference staff by telephone at 1-800-397-4209, 301-415-4737 or by e-mail to pdr@nrc.gov.

Dated at Rockville, Maryland, this 24th day of June 2005.
For the Nuclear Regulatory Commission.
Harold K. Chernoff,
Sr. Project Manager, Section 1, Project Directorate III, Division of Licensing Project Management, Office of Nuclear Reactor Regulation.

[FR Doc. E5-4374 Filed 8-11-05; 8:45 am]

BILLING CODE 7590-01-P